NUCLEAR REGULATORY COMMISSION

Advisory Committee on Reactor Safeguards, Subcommittee Meeting on Safeguards and Security; Postponed

The ACRS Subcommittee on Safeguards and Security scheduled for August 24-26, 2004, at Sandia National Laboratories, Albuquerque, New Mexico has been postponed. The meeting will be rescheduled at a future date when the work that was scheduled for discussion has been completed. Notice of this meeting was published in the Federal Register on Monday, July 26, 2004 (69 FR 44553).

For further information contact: Dr. Richard P. Savio (telephone: (301) 415-7362) or Mr. Richard K. Major (telephone: (301) 415-7366) between 7:30 a.m. and 4:15 p.m. (ET).

Dated: August 6, 2004.
Michael R. Snodderly,
Acting Associate Director for Technical Support, ACRS/ACNW.

[FR Doc. 04-18434 Filed 8-11-04; 8:45 am]

BILLING CODE 7590-01-P